GENERAL SERVICES ADMINISTRATION

41 CFR Chapter 301

[FTR Case 2003-306; FTR Amendment 2003-05]

RIN 3090-AH87

Federal Travel Regulation (FTR); Per Diem (Incidental Expense Increase)

AGENCY: Office of Governmentwide Policy, General Services Administration (GSA).

ACTION: Final rule.

SUMMARY: This final rule amends the Federal Travel Regulation (FTR) by increasing the incidental expense allowance under the per diem expenses from $2.00 to $3.00 for all per diem localities.

DATES: Effective Date: October 1, 2003.

FOR FURTHER INFORMATON CONTACT: The Regulatory Secretariat, Room 4035, GSA Building, Washington, DC 20405, (202) 208-7312, for information pertaining to status or publication schedules. For clarification of content, contact Ms. Umeki G. Thorne, Program Analyst, Office of Governmentwide Policy, Travel Management Policy at (202) 208-7636. Please cite FTR case 2003-306.

SUPPLEMENTARY INFORMATION:

A. Background

An analysis of lodging and meal cost survey data reveals that the listing of maximum per diem rates for locations within the continental United States (CONUS) should be updated to provide for the reimbursement of Federal employees' expenses covered by per diem. As a result of this analysis, the incidental expense under the per diem expenses will be increased from $2 to $3 for all per diem localities.

B. Executive Order 12866

This is not a significant regulatory action and, therefore, was not subject to review under Section 6(b) of Executive Order 12866, Regulatory Planning and Review, dated September 30, 1993. This rule is not a major rule under 5 U.S.C. 804.

C. Regulatory Flexibility Act

This final rule is not required to be published in the Federal Register for notice and comment; therefore, the Regulatory Flexibility Act, 5 U.S.C. 601 et seq., does not apply.

D. Paperwork Reduction Act

The Paperwork Reduction Act does not apply because the changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates solely to agency management and personnel.

List of Subjects in 41 CFR Part 301-11

Government employees, Travel and transportation expenses.

Dated: August 22, 2003.
Stephen A. Perry,
Administrator of General Services.

For the reasons set forth in the preamble, under 5 U.S.C. 5701-5709, GSA amends 41 CFR chapter 301 as set forth below:

CHAPTER 301—TEMPORARY DUTY (TDY) TRAVEL ALLOWANCES

PART 301-11—PER DIEM EXPENSES

1. The authority citation for 41 CFR part 301-11 continues to read as follows:

Authority: 5 U.S.C. 5707.

§ 301-11.18 [Amended]

2. Amend § 301-11.18 by revising the table to read as follows:

* * * * *

M&IE | $31 | $35 | $39 | $43 | $47 | $51
Breakfast | 6 | 7 | 8 | 9 | 9 | 10
Lunch | 6 | 7 | 8 | 9 | 11 | 12
Dinner | 16 | 18 | 20 | 22 | 24 | 26
Incidentals | 3 | 3 | 3 | 3 | 3 | 3

[FR Doc. 03-22108 Filed 8-28-03; 8:45 am]

BILLING CODE 6820-14-P